DEPARTMENT OF ENERGY

Federal Energy Regulatory Commission

[Docket No. IC22-16-000]

Commission Information Collection Activities (FERC-542); Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collections, FERC-542 (Gas Pipeline Rates: Rate Tracking). The Commission published a 60-day notice in the Federal Register on June 15, 2022, and received no comments.

DATES: Comments on the collection of information are due October 3, 2022.

ADDRESSES: Send written comments on FERC 542 to OMB through www.reginfo.gov/public/do/PRAMain, Attention: Federal Energy Regulatory Commission Desk Officer. Please identify the OMB Control Number 1902-0070 (Gas Pipeline Rates: Rate Tracking) in the subject line. Your comments should be sent within 30 days of publication of this notice in the Federal Register.

Please submit copies of your comments (identified by Docket No. IC22-16-000 and the form) to the Commission as noted below. Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service only, addressed to: Federal Energy Regulatory Commission, Secretary of the Commission, 888 First Street NE, Washington, DC 20426.

○ Hand (including courier) delivery to: Federal Energy Regulatory Commission, 12225 Wilkins Avenue, Rockville, MD 20852.

Please reference the specific collection number(s) and/or title(s) in your comments.

Instructions: OMB submissions must be formatted and filed in accordance with submission guidelines at: www.reginfo.gov/public/do/PRAMain. Using the search function under the “Currently Under Review field,” select Federal Energy Regulatory Commission; click “submit” and select “comment” to the right of the subject collection. FERC submissions must be formatted and filed in accordance with submission guidelines at: https://www.ferc.gov. For user assistance contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-542 (Gas Pipeline Rates: Rate Tracking).

OMB Control No.: 1902-0070.

Type of Request: Three-year extension of the FERC-542 information collection requirements with no changes to the current reporting requirements.

Abstract: The Commission uses FERC-542 filings to verify that costs which are passed through to pipeline customers as rate adjustments are consistent with the Natural Gas Policy Act (NGPA), 15 U.S.C. 3301-3432, and sections 4 and 5 of the Natural Gas Act (NGA), 15 U.S.C. 717c and 717d. These statutory provisions require FERC to regulate the transmission and sale of natural gas for resale in interstate commerce at just and reasonable rates. This collection of information is also in accordance with section 16 of the NGA, 15 U.S.C. 717o, which authorizes FERC to implement the NGA through its rules and regulations.

The regulations at 18 CFR part 154 include provisions that allow an interstate natural gas pipeline to submit filings seeking to:

• Recover research, development and demonstration expenditures (18 CFR 154.401);

• Recover annual charges assessed by the Commission under 18 CFR part 382 (18 CFR 154.402); and

• Pass through, on a periodic basis, a single cost or revenue item such as fuel use and unaccounted-for natural gas in kind (18 CFR 154.403).

FERC-542 filings may be submitted at any time or on a regularly scheduled basis in accordance with the pipeline company's tariff. Filings may be: (1) accepted or rejected; (2) suspended and set for hearing; (3) minimal suspension; or (4) suspended for further review, such as technical conference or some other type of Commission action. The Commission implements these filing requirements under 18 CFR part 154.

Type of Respondents: Jurisdictional Natural Gas Pipelines.

Estimate of Annual Burden: ¹ The Commission estimates the total burden and cost for this information collection as follows:

¹ “Burden” is the total time, effort, or financial resources expended by persons to generate, maintain, retain, or disclose or provide information to or for a Federal agency. For further explanation of what is included in the information collection burden, refer to 5 CFR 1320.3.

FERC 542—Gas Pipeline Rates: Rate Tracking
Type of response | Annual number of respondents | Annual number of responses per respondent | Total number of responses | Average burden hours & cost per respondent | Total annual burden hours & total annual cost (rounded) | Cost per respondent (rounded)
| (1) | (2) | (1) * (2) = (3) | (4) ² | (3) * (4) = (5) | (5) ÷ (1)
Request to Recover Costs from Customers | 94 | 2 | 188 | 2 hrs; $174 | 376 hrs; $32,712 | $174
² The Commission staff estimates that the industry's hourly cost for wages plus benefits is similar to the Commission's $87.00 FY 2021 average hourly cost for wages and benefits.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 26, 2022.
Kimberly D. Bose,
Secretary.

[FR Doc. 2022-18946 Filed 8-31-22; 8:45 am]

BILLING CODE 6717-01-P